DEPARTMENT OF THE TREASURY

United States Mint

Privacy Act of 1974; System of Records

AGENCY: United States Mint, Treasury.

ACTION: Notice of systems of records.

SUMMARY: In accordance with the requirements of the Privacy Act of 1974, as amended, 5 U.S.C. 552a, the U.S. Mint, Treasury, is publishing its Privacy Act systems of records.

SUPPLEMENTARY INFORMATION: Pursuant to the Privacy Act of 1974 (5 U.S.C. 552a) and the Office of Management and Budget (OMB), Circular No. A-130, the U.S. Mint has completed a review of its Privacy Act systems of records notices to identify changes that will more accurately describe these records.

Changes to the “Categories of records” described under U.S. Mint .003-Employee and Former Employee Travel & Training Accounting Information System, have been made to update form titles and numbers.

The title of U.S. Mint .008 has been changed from Criminal Investigations Files' to “Employee Background Investigations Files.”

Other changes throughout the notices are editorial in nature and consist principally of changes to the “System Locations” and/or “System Manager(s) Address.”

One system of records, Mint .002-Current Employee Security Identification Record was deleted December 14, 2000, as published at 65 FR 78261.

Systems Covered by This Notice

This notice covers all systems of records adopted by the U.S. Mint up to June 1, 2001. The systems notices are reprinted in their entirety following the Table of Contents.

Dated: August 7, 2001.
W. Earl Wright, Jr.,
Chief Management and Administrative Programs Officer.

Table of Contents

United States Mint

Mint .001—Cash Receivable Accounting Information System

Mint .003—Employee and Former Employee Travel & Training Accounting Information System

Mint .004—Occupational Safety and Health, Accident and Injury Records, and Claims for Injuries or Damage Compensation Records

Mint .005—Employee-Supervisor Performance Evaluation, Counseling, and Time and Attendance Records

Mint .007—General Correspondence

Mint .008—Employee Background Investigations Files (Formerly: Criminal Investigations Files)

Mint .009—Mail Order and Catalogue Sales System (MACS), Customer Mailing List, Order Processing Record for Coin Sets, Medals And Numismatic Items, and Records of Undelivered Orders, Product Descriptions, Availability And Inventory

Mint .012—Grievances. Union/Agency Negotiated Grievances; Adverse Performance Based Personnel Actions; Discrimination Complaints; Third Party Actions

United States Mint

Treasury/U.S. Mint .001

System name:

Cash Receivable Accounting Information System—Treasury/United States Mint.

System location:

United States Mint, 801 9th Street, NW, Washington, DC 20220; United States Mint, 151 North Independence Mall East, Philadelphia, PA 19106; United States Mint, 320 West Colfax Avenue, Denver, CO 80204; United States Mint, 155 Hermann Street, San Francisco, CA 94102; United States Mint, West Point, NY 10996; United States Bullion Depository, Fort Knox, KY 40121.

Categories of individuals covered by the system:

Employees and former employees of the United States Mint and the general public who have: (a) Served on jury duty when employed by the United States Mint; (b) paid for lost Government property belonging to the Mint; (c) purchased numismatic items from Mint sales outlets; and (d) have obtained travel advances.

Categories of records in the system:

(1) Receivables due from Mint employees, former employees and general public for lost Government property, salary overpayments, and cash sales of over-the-counter numismatic items; and (2) Receivables due from Mint employees and former employees who have outstanding travel advances.

Authority for maintenance of the system:

5 U.S.C. 5537 and 31 U.S.C. 5111 (a)(3).

Routine uses of records maintained in the system, including categories of users and the purposes of such uses:

These records and information in the records may be used to disclose information to: (1) Accounting offices, managers, supervisors and government officials pertaining to cash receivables and debts owed the Government; (2) appropriate Federal, state, local, or foreign agencies responsible for investigating or prosecuting the violations of, or for enforcing or implementing, a statute, rule, regulation, order, or license; (3) a Federal, state, or local agency, maintaining civil, criminal or other relevant enforcement information or other pertinent information, which has requested information relevant to or necessary to the requesting agency's or the bureau's hiring or retention of an employee, or issuance of a security clearance, license, contract, grant, or other benefit; (4) a court, magistrate, or administrative tribunal in the course of presenting evidence, including disclosures to opposing counsel or witnesses in the course of civil discovery, litigation, or settlement negotiations, in response to a court-ordered subpoena, or in connection with criminal law proceedings; (5) foreign governments in accordance with formal or informal international agreements; (6) a congressional office in response to an inquiry made at the request of the individual to whom the record pertains; (7) the news media in accordance with guidelines contained in 28 CFR 50.2 which relate to an agency's functions relating to civil and criminal proceedings; (8) unions recognized as exclusive bargaining representatives under the Civil Service Reform Act of 1978, 5 U.S.C. 7111 and 7114; (9) third parties during the course of an investigation to the extent necessary to obtain information pertinent to the investigation.

Policies and practices for storing, retrieving, accessing, retaining, and disposing of records in the system:

Storage:

Paper documents.

Retrievability:

Name or number substitute.

Safeguards:

Storage in filing cabinets with access by authorized accounting personnel.

Retention and disposal:

General records control schedule, GAO rules and regulations, United States Mint Records Control Schedule. Records are destroyed in accordance with National Archives and Records Administration regulations.

System manager(s) and address:

Chief Financial Officer, United States Mint, 801 9th Street, NW, Washington, DC 20220; Financial Manager, United States Mint, 151 North Independence Mall East, Philadelphia, PA 19106; Financial Manager, United States Mint, 320 West Colfax Avenue, Denver, CO 80204; Financial Manager, United States Mint, 155 Hermann Street, San Francisco, CA 94102; Chief, Accounting Division, United States Mint, West Point, NY 10996; Administrative Officer, United States Bullion Depository, Fort Knox, KY 40121.

Notification procedure:

Refer to System manager(s) and address. An employee or former employee is required to show an identification such as: (a) Employee identification; (b) Driver's license; (c) Other means of identification, including social security number and date of birth.

Record access procedure:

For information on procedures for gaining access to and contesting records, individuals may contact the following official: Disclosure Officer, United States Mint, Office of Management Services, 801 9th Street, NW, Washington, DC 20220.

Contesting record procedures:

Refer to “Record access procedures.”

Record source categories:

U.S. Mint employees and appropriate agency officials.

Exemptions claimed for the system:

None.

Treasury/U.S. Mint .003

System name:

Employee and Former Employee Travel and Training Accounting Information System—Treasury/United States Mint.

System location:

United States Mint, 801 9th Street, NW, Washington, DC 20220; United States Mint, 151 North Independence Mall East, Philadelphia, PA 19106; United States Mint, 320 West Colfax Avenue, Denver, CO 80204; United States Mint, 155 Hermann Street, San Francisco, CA 94102; United States Mint, West Point, NY 10996; United States Bullion Depository, Fort Knox, KY 40121.

Categories of individuals covered by the system:

Employees and former employees of the United States Mint who have engaged in travel and training.

Categories of records in the system:

(1) Schedule of Payments generated from the Electronic Certification System (ECS) with supporting documents such as: (a) SF 1012 Travel Voucher; (b) SF 1038 Application and Account for Advance of Funds; (2) Travel Authorities; (3) SF-182, Request, Authorization, Agreement and Certification of Training.

Authority for maintenance of the system:

5 U.S.C. Chapters 41 and 57.

Routine uses of records maintained in the system, including categories of users and the purposes of such uses:

These records and information in the records may be used to disclose information to: (1) Accounting offices, managers, supervisors and government officials pertaining to cash receivables and debts owed the Government; (2) appropriate Federal, state, local, or foreign agencies responsible for investigating or prosecuting the violations of, or for enforcing or implementing, a statute, rule, regulation, order, or license; (3) a Federal, state, or local agency, maintaining civil, criminal or other relevant enforcement information or other pertinent information, which has requested information relevant to or necessary to the requesting agency's or the bureau's hiring or retention of an employee, or issuance of a security clearance, license, contract, grant, or other benefit; (4) a court, magistrate, or administrative tribunal in the course of presenting evidence, including disclosures to opposing counsel or witnesses in the course of civil discovery, litigation, or settlement negotiations, in response to a court-ordered subpoena, or in connection with criminal law proceedings; (5) foreign governments in accordance with formal or informal international agreements; (6) a congressional office in response to an inquiry made at the request of the individual to whom the record pertains; (7) the news media in accordance with guidelines contained in 28 CFR 50.2 which relate to an agency's functions relating to civil and criminal proceedings; (8) unions recognized as exclusive bargaining representatives under the Civil Service Reform Act of 1978, 5 U.S.C. 7111 and 7114; (9) third parties during the course of an investigation to the extent necessary to obtain information pertinent to the investigation.

Policies and practices for storing, retrieving, accessing, retaining, and disposing of records in the system:

Storage:

Paper documents.

Retrievability:

Name or number substitute (social security number, authority number).

Safeguards:

Stored in filing cabinets with access by authorized accounting personnel.

Retention and disposal:

General Records Control Schedule, GAO rules and regulations, United States Mint Records Control Schedule are destroyed in accordance with National Archives and Records Administration regulations.

System manager(s) and address:

Chief Financial Officer, United States Mint, 801 9th Street, NW, Washington, DC 20220; Financial Manager, United States Mint, 151 North Independence Mall East, Philadelphia, PA 19106; Financial Manager, United States Mint, 320 West Colfax Avenue, Denver, CO 80204; Financial Manager, United States Mint, 155 Hermann Street, San Francisco, CA 94102; Chief, Accounting Division, United States Mint, West Point, NY 10996; Administrative Officer, United States Bullion Depository, Fort Knox, KY 40121.

Notification procedure:

Refer to System manager(s) and address. An employee or former employee is required to show an identification such as: (a) Employee identification; (b) Driver's license; and (c) Other means of identification including social security number and date of birth.

Record access procedures:

For information on procedures for gaining access to and contesting records, individuals may contact the following official: Disclosure Officer, United States Mint, Office of Management Services, 801 9th Street, NW, Washington, DC 20220.

Contesting record procedures:

Refer to “Record access procedures.”

Record source categories:

United States Mint employees and appropriate agency officials.

Exemptions claimed for the system:

None.

Treasury/U.S. Mint .004

System name:

Occupational Safety and Health, Accident and Injury Records, and Claims for Injuries or Damage Compensation Records—Treasury/United States Mint.

System location:

Location and Category of Records Maintained: United States Mint, 801 9th Street, NW, Washington, DC 20220—Accident/Injury/Illness Records, Vehicle Accident, and Claims against the Government; United States Mint, 151 North Independence Mall East, Philadelphia, PA 19106—Accident/Injury/Illness Records, Motor Vehicle Accident Data, Claims against the Government, Safety Equipment Logs, and Operators Training/Licensing; United States Mint, 320 West Colfax Avenue, Denver, CO 80204; Accident/Injury/Illness Records, Motor Vehicle Accident Data, Claims against the Government, Safety Equipment Logs, and Operators Licensing; United States Mint, 155 Hermann Street, San Francisco, CA 94102; Accident/Injury/Illness Records, Motor Vehicle Accident Data, Claims against the Government, Safety Equipment Logs, and Operators Training/ Licensing; United States Mint, West Point, NY 10996; Accident/Injury/Illness Records, Motor Vehicle Accident Data, Claims against the Government, and Safety Equipment Logs; United States Bullion Depository, Fort Knox, KY 40121; Accident/Injury/Illness Records, Motor Vehicle Accident Data, and Claims against the Government.

Categories of individuals covered by the system:

United States Mint employees, former employees and members of the public.

Categories of records in the system:

Refer to “System location.”

Authority for maintenance of the system:

5 U.S.C. Ch. 81; 29 U.S.C. 668; 29 CFR 1910; E.O. 12196, 28 U.S.C. 2680 et seq; 31 U.S.C. 3701 and 3721; and 31 CFR Parts 3 and 4.

Routine uses of records maintained in the system, including categories of users and the purposes of such uses:

These records and information in the records may be used to disclose information to: (1) Appropriate Federal, state, local, or foreign agencies responsible for investigating or prosecuting the violations of, or for enforcing or implementing, a statute, rule, regulation, order, or license; (2) a Federal, state, or local agency, maintaining civil, criminal or other relevant enforcement information or other pertinent information, which has requested information relevant to or necessary to the requesting agency's or the bureau's hiring or retention of an employee, or issuance of a security clearance, license, contract, grant, or other benefit; (3) a court, magistrate, or administrative tribunal in the course of presenting evidence, including disclosures to opposing counsel or witnesses in the course of civil discovery, litigation, or settlement negotiations, in response to a court-ordered subpoena, or in connection with criminal law proceedings; (4) foreign governments in accordance with formal or informal international agreements; (5) a congressional office in response to an inquiry made at the request of the individual to whom the record pertains; (6) the news media in accordance with guidelines contained in 28 CFR 50.2 which relate to an agency's functions relating to civil and criminal proceedings; (7) third parties during the course of an investigation to the extent necessary to obtain information pertinent to the investigation; (8) physicians providing medical services or advice to Mint management and/or employees, or to private physicians of Mint employees, for the purpose of assisting in making medical diagnoses or treatment.

Policies and practices for storing, retrieving, accessing, retaining, and disposing of records in the system:

Storage:

Paper documents.

Retrievability:

By name.

Safeguards:

Locked file cabinets available to authorized personnel only.

Retention and disposal:

Records are retained in accordance with General Records Control Schedules; DOL, OSHA; EPA; and United States Mint Records Control Schedules; are destroyed in accordance with National Archives and Records Administration rules and regulations.

System manager(s) and address:

Assistant Director for Human Resources, Associate Director for Protection, Safety Officer, Treasury Department, United States Mint, 801 9th Street, NW, Washington, DC 20220; Personnel Officer and Safety Officer, United States Mint, 151 North Independence Mall East, Philadelphia, PA 19106; Personnel Officer, United States Mint, 320 West Colfax Avenue, Denver, CO 80204; Personnel Officer and Safety Officer, United States Mint, 155 Hermann Street, San Francisco, CA 94102; Administrative Officer, United States Mint, West Point, NY 10996; Administrative Officer, United States Bullion Depository, Fort Knox, KY 40121.

Notification procedure:

Refer to System manager(s) and address. An employee or former employee is required to show an identification such as: (a) Employee identification; (b) Driver's license; and (c) Other means of identification, including social security number and date of birth.

Record access procedures:

For information on procedures for gaining access to and contesting records, individuals may contact the following official: Disclosure Officer, United States Mint, Office of Management Services, 801 9th Street, NW, Washington, DC 20220.

Contesting record procedures:

Refer to “Record access procedures.”

Record source categories:

Employees, supervisors, medical staff, general public, and visitors to the facilities of the United States Mint.

Exemptions claimed for the system:

None.

Treasury/U.S. Mint .005

System name:

Employee—Supervisor Performance Evaluation, Counseling and Time and Attendance Records—Treasury/United States Mint.

System location:

United States Mint, 155 Hermann Street, San Francisco, CA 94102; United States Mint, 320 West Colfax Avenue, Denver, CO 80204; United States Mint, 801 9th Street, NW., Washington, DC 20220; United States Mint, 151 North Independence Mall East, Philadelphia, PA 19106; United States Mint, West Point, NY; United States Bullion Depository, Fort Knox, KY 40121; and United States Mint, Customer Care Center, 10003 Derekwood Lane, Lanham, MD 20706.

Categories of individuals covered by the system:

United States Mint employees and former employees.

Categories of records in the system:

Information necessary for managers and supervisors to effectively carry out supervisory responsibilities. Included are such records as: copies of personnel actions, performance appraisal including production and control, disciplinary actions, overtime reports, tardiness reports, work assignments, training reports, applications for employment, home addresses, leave reports, employee awards. (Supervisors maintain varying combinations of the above records. Some supervisors may maintain all or none of the above records depending upon the nature and size of the operation or organization and the number of individuals supervised.)

Authority for maintenance of the system:

5 U.S.C. 301 and FPM Supplement 990—1, Section 3.

Routine uses of records maintained in the system, including categories of users and the purposes of such uses:

These records and information in the records may be used to disclose information to: (1) Appropriate Federal, state, local, or foreign agencies responsible for investigating or prosecuting the violations of, or for enforcing or implementing, a statute, rule, regulation, order, or license; (2) a Federal, state, or local agency, maintaining civil, criminal or other relevant enforcement information or other pertinent information, which has requested information relevant to or necessary to the requesting agency's or the bureau's hiring or retention of an employee, or issuance of a security clearance, license, contract, grant, or other benefit; (3) a court, magistrate, or administrative tribunal in the course of presenting evidence, including disclosures to opposing counsel or witnesses in the course of civil discovery, litigation, or settlement negotiations, in response to a court-ordered subpoena, or in connection with criminal law proceedings; (4) foreign governments in accordance with formal or informal international agreements; (5) a congressional office in response to an inquiry made at the request of the individual to whom the record pertains; (6) the news media in accordance with guidelines contained in 28 CFR 50.2 which relate to an agency's functions relating to civil and criminal proceedings; (7) third parties during the course of an investigation to the extent necessary to obtain information pertinent to the investigation.

Policies and practices for storing, retrieving, accessing, retaining, and disposing of records in the system:

Storage:

Paper documents maintained in folders.

Retrievability:

By name.

Safeguards:

Stored in file cabinets and desks of supervisors.

Retention and disposal:

Retained as long as employee is under their supervision.

System manager(s) and address:

Associate and Assistant Directors and Director's Staff, United States Mint, 801 9th Street, NW., Washington, DC 20220, and Customer Care Center, 10003 Derekwood Lane, Lanham, MD 20706; Superintendent, United States Mint, 151 North Independence Mall East, Philadelphia, PA 19106; Superintendent, United States Mint, 320 West Colfax Avenue, Denver, CO 80204; Superintendent, United States Mint, 155 Hermann Street, San Francisco, CA 94102; Superintendent, United States Mint, West Point, NY 10996; Officer-in-Charge, United States Bullion Depository, Fort Knox, KY 40121.

Notification procedure:

Refer to System manager(s) and address. Employee or former employee is required to show identification such as: identification card, driver's license.

Record access procedures:

For information on procedures for gaining access to and contesting records, individuals may contact the following official: Disclosure Officer, United States Mint, Office of Management Services, 801 9th Street, NW., Washington, DC 20220.

Contesting record procedures:

Refer to “Record access procedures.”

Record source categories:

Employees, previous employers, and appropriate agency officials.

Exemptions claimed for the system:

None.

Treasury/U.S. Mint .007

System name:

General Correspondence—Treasury/United States Mint.

System location:

United States Mint, 801 9th Street, NW, Washington, DC 20220.

Categories of individuals covered by the system:

Members of the public, Members of Congress, Mint officials and officials from other Federal agencies.

Categories of records in the system:

Incoming correspondence and replies pertaining to the mission, function and operation of the United States Mint.

Authority for maintenance of the system:

31 U.S.C. 5131 and 5132.

Routine uses of records maintained in the system, including categories of users and the purposes of such uses:

These records and information in the records may be used to disclose information to: (1) Appropriate Federal, state, local, or foreign agencies responsible for investigating or prosecuting the violations of, or for enforcing or implementing, a statute, rule, regulation, order, or license; (2) a Federal, state, or local agency, maintaining civil, criminal or other relevant enforcement information or other pertinent information, which has requested information relevant to or necessary to the requesting agency's or the bureau's hiring or retention of an employee, or issuance of a security clearance, license, contract, grant, or other benefit; (3) a court, magistrate, or administrative tribunal in the course of presenting evidence, including disclosures to opposing counsel or witnesses in the course of civil discovery, litigation, or settlement negotiations, in response to a court-ordered subpoena, or in connection with criminal law proceedings; (4) foreign governments in accordance with formal or informal international agreements; (5) a congressional office in response to an inquiry made at the request of the individual to whom the record pertains; (6) the news media in accordance with guidelines contained in 28 CFR 50.2 which relate to an agency's functions relating to civil and criminal proceedings; (7) third parties during the course of an investigation to the extent necessary to obtain information pertinent to the investigation.

Policies and practices for storing, retrieving, accessing, retaining, and disposing of records in the system:

Storage:

Paper documents and electronic files.

Retrievability:

By name (limited retrievability by subject and/or control number).

Safeguards:

Maintained in limited access area available only to appropriate agency officials.

Retention and disposal:

In accordance with the National Archives and Records Administration's General Records Control Schedule and the United States Mint Records Control Schedule. Destroyed in accordance with National Archives and Records Administration regulation.

System manager(s) and address:

Chief, Executive Secretariat, United States Mint, 801 9th Street, NW, Washington, DC 20220.

Notification procedure:

Refer to System Manager for addresses to which inquiries may be addressed and addresses at which the individual may present a request as to whether a system contains records pertaining to himself/herself. The individual must supply his/her name.

Record access procedures:

For information on procedures for gaining access to and contesting records, individuals may contact the following official: Disclosure Officer, United States Mint, Office of Management Services, 801 9th Street, NW, Washington, DC 20220.

Contesting record procedures:

Refer to “Record access procedures.”

Record source categories:

The general public, Members of Congress and Federal officials.

Exemptions claimed for the system:

None.

Treasury/U.S. Mint .008

System name:

Employee Background Investigations Files—Treasury/United States Mint.

System location:

United States Mint, 801 9th Street, NW, Washington, DC 20220.

Categories of individuals covered by the system:

Mint employees and members of the public suspected of criminal misconduct against the United States Mint.

Categories of records in the system:

Name of individual, location of Mint facility, and reports by security personnel of the U.S. Mint Police.

Authority for maintenance of the system:

Title 18 U.S.C.

Routine uses of records maintained in the system, including categories of users and the purposes of such uses: These records and information in the records may be used to disclose information to: (1) Appropriate Federal, state, local, or foreign agencies responsible for investigating or prosecuting the violations of, or for enforcing or implementing, a statute, rule, regulation, order, or license; (2) a Federal, state, or local agency, maintaining civil, criminal or other relevant enforcement information or other pertinent information, which has requested information relevant to or necessary to the requesting agency's or the bureau's hiring or retention of an employee, or issuance of a security clearance, license, contract, grant, or other benefit; (3) a court, magistrate, or administrative tribunal in the course of presenting evidence, including disclosures to opposing counsel or witnesses in the course of civil discovery, litigation, or settlement negotiations, in response to a court-ordered subpoena, or in connection with criminal law proceedings; (4) foreign governments in accordance with formal or informal international agreements; (5) a congressional office in response to an inquiry made at the request of the individual to whom the record pertains; (6) the news media in accordance with guidelines contained in 28 CFR 50.2 which relate to an agency's functions relating to civil and criminal proceedings; (7) third parties during the course of an investigation to the extent necessary to obtain information pertinent to the investigation.

Policies and practices for storing, retrieving, accessing, retaining, and disposing of records in the system:

Storage:

Paper documents.

Retrievability:

By name.

Safeguards:

Files are kept in a combination locked file cabinet in an area accessible to authorized agency officials.

Retention and disposal:

Retained in accordance with United States Mint Records Control Schedule; are destroyed in accordance with National Archives and Records Administration rules and regulations.

System manager(s) and address:

Office of Protection, United States Mint, 801 9th Street, NW, Washington, DC 20220.

Notification procedures:

Refer to System manager(s) and address.

Record access procedures:

For information on procedures for gaining access to and contesting records, individuals may contact the following official: Disclosure Officer, United States Mint, Office of Management Services, 801 9th Street, NW, Washington, DC 20220.

Contesting record procedures:

Refer to “Record access procedures.”

Record source categories:

United States Mint and other law enforcement officials.

Exemptions claimed for the system:

As authorized by 5 U.S.C. 552a(k)(2); this system is exempt from the following provisions, subsections (c)(3), (d), (e)(1); (e)(4) (G), (H), and (I) and (f) of 5 U.S.C. 552a.

Treasury/U.S. Mint .009

System name:

Mail-order and Catalogue Sales System (MACS), Customer Mailing List, Order Processing Record for Coin Sets, Medals and Numismatic Items, and records of undelivered orders, product descriptions, availability and inventory-Treasury/United States Mint.

System location:

United States Mint, 801 9th Street, NW, Washington, DC 20220 and Customer Care Center, 10003 Derekwood Lane, Lanham, MD 20706.

Categories of individuals covered by the system:

Members of the public.

Categories of records in the system:

Names, addresses, order history of customers purchasing numismatic items and of individuals who wish to receive notification of numismatic offerings by the Mint.

Authority for maintenance of the system:

31 U.S.C. 5111, 5112, 5132 and 31 CFR Part 92.

Routine uses of records maintained in the system, including categories of users and the purposes of such uses:

These records and information in the records may be used to disclose information to: (1) Accounting offices, managers, supervisors and government officials pertaining to cash receivables and debts owed the Government; (2) appropriate Federal, state, local, or foreign agencies responsible for investigating or prosecuting the violations of, or for enforcing or implementing, a statute, rule, regulation, order, or license; (3) a Federal, state, or local agency, maintaining civil, criminal or other relevant enforcement information or other pertinent information, which has requested information relevant to or necessary to the requesting agency's or the bureau's hiring or retention of an employee, or issuance of a security clearance, license, contract, grant, or other benefit; (4) a court, magistrate, or administrative tribunal in the course of presenting evidence, including disclosures to opposing counsel or witnesses in the course of civil discovery, litigation, or settlement negotiations, in response to a court-ordered subpoena, or in connection with criminal law proceedings; (5) foreign governments in accordance with formal or informal international agreements; (6) a congressional office in response to an inquiry made at the request of the individual to whom the record pertains; (7) the news media in accordance with guidelines contained in 28 CFR 50.2 which relate to an agency's functions relating to civil and criminal proceedings; (8) third parties during the course of an investigation to the extent necessary to obtain information pertinent to the investigation.

Policies and practices for storing, retrieving, accessing, retaining, and disposing of records in the system:

Storage:

Magnetic tape, discs, paper and cards:

Retrievability:

Name, customer number or order number.

Safeguards:

CRT, password protection; only designated persons may request computer generated reports. Access to any information pertaining to any individual is limited to only those individuals requiring the information to accommodate handling of transactions with the customers. Separation of functions; source documents maintained in one division and programming systems in another.

Retention and disposal:

In accordance with the National Archives and Records Administration General Records Control Schedule and the United States Mint Records Control Schedule; are destroyed in accordance with National Archives and Records Administration regulations. Customer names and addresses are maintained as long as they are active.

System manager(s) and address:

Associate Director for Customer Care, Customer Care Center, 10003 Derekwood Lane, Lanham, MD 20706.

Notification procedure:

Refer to System manager(s) and address. Individuals should supply order number as provided on order card or copy of both sides of canceled check; customer number which appears on pre-printed order cards or on face of check.

Record access procedures:

For information on procedures for gaining access to and contesting records, individuals may contact the following official: Disclosure Officer, United States Mint, Office of Management Services, 801 9th Street, NW, Washington, DC 20220.

Contesting record procedures:

Refer to “Record access procedures.”

Record source categories:

Members of the public and appropriate government officials.

Exemptions claimed for the system:

None.

Treasury/U.S. Mint .012

System name:

Grievances. Union/Agency Negotiated Grievances; Adverse Performance Based Personnel Actions; Discrimination Complaints; Third Party Actions—Treasury/United States Mint.

System location:

United States Mint, 801 9th Street, NW, Washington, DC 20220; United States Mint, 151 North Independence Mall East, Philadelphia, PA 19106; United States Mint, 320 West Colfax Avenue, Denver, CO 80204; United States Mint, 155 Hermann Street, San Francisco, CA 94102; United States Mint, West Point, NY 10996; United States Bullion Depository, Fort Knox, KY 40121.

Categories of individuals covered by the system:

Employees and former employees of the United States Mint.

Categories of records in the system:

This system of records contains information or documents relating to employee grievances filed under provisions of negotiated grievance procedures, administrative grievance procedures, adverse action procedures, performance based action procedures, and discrimination complaint procedures, including decision of appropriate third parties where applicable.

Authority for maintenance of the system:

5 U.S.C. 7701 and 7702; 5 U.S.C. Ch. 75; and 5 U.S.C. Ch. 71. Executive Orders 11491, 11616, 11636, 11838, 11901, 12027, 12107; 29 CFR 1613; negotiated agreements between the United States Mint and exclusively recognized labor unions.

Routine uses of records maintained in the system, including categories of users and the purposes of such uses:

These records and information in the records may be used to disclose information to: (1) Appropriate Federal, state, local, or foreign agencies responsible for investigating or prosecuting the violations of, or for enforcing or implementing, a statute, rule, regulation, order, or license; (2) a Federal, state, or local agency, maintaining civil, criminal or other relevant enforcement information or other pertinent information, which has requested information relevant to or necessary to the requesting agency's or the bureau's hiring or retention of an employee, or issuance of a security clearance, license, contract, grant, or other benefit; (3) a court, magistrate, or administrative tribunal in the course of presenting evidence, including disclosures to opposing counsel or witnesses in the course of civil discovery, litigation, or settlement negotiations, in response to a court-ordered subpoena, or in connection with criminal law proceedings; (4) a congressional office in response to an inquiry made at the request of the individual to whom the record pertains; (5) the news media in accordance with guidelines contained in 28 CFR 50.2 which relate to an agency's functions relating to civil and criminal proceedings; (6) unions recognized as exclusive bargaining representatives under the Civil Service Reform Act of 1978, 5 U.S.C. 7111 and 7114; (7) third parties during the course of an investigation to the extent necessary to obtain information pertinent to the investigation.

Policies and practices for storing, retrieving, accessing, retaining, and disposing of records in the system:

Storage:

These records are maintained in file folders or binders.

Retrievability:

These records are filed by the names of the individuals on whom they are maintained or by the subject of the action.

Safeguards:

Access to and use of these records are limited to those agency officials whose official duties require such access.

Retention and disposal:

Retained in accordance with the United States Mint Records Control Schedules; are destroyed in accordance with National Archives and Records Administration rules and regulations.

System manager(s) and address:

For current and former employees: Assistant Director for Human Resources, United States Mint, Department of the Treasury, 801 9th Street, NW, Washington, DC 20220. Personnel Officer, United States Mint, 151 North Independence Mall East, Philadelphia, PA 19106. Personnel Officer, United States Mint, 320 West Colfax Avenue, Denver, CO 80204. Personnel Officer, United States Mint, 155 Hermann Street, San Francisco, CA 94102. Personnel Officer, United States Mint, West Point, NY 10996. Administrative Officer, United States Bullion Depository, Fort Knox, KY 40121.

Notification procedure:

Individuals who have filed an action are provided a copy of the record. They may, however, contact the System Manager indicated above regarding the existence of such records pertaining to them. It is necessary to furnish information sufficient to verify the identity of the requester such as full name, date of birth, a brief description of the grievance and the approximate date of submission.

Record access procedures:

Individuals who have filed a grievance, appeal, or complaint about a decision or determination made by an agency or about conditions existing in an agency already have been provided a copy of the record. The contest, amendment, or correction of a record is permitted during the prosecution of the action to whom the record pertains. However, after a case has been closed, an individual may gain access to, or contest the official copy of the grievance record by writing the appropriate System Manager indicated above. Individuals should provide name, date of birth, a brief description of the action and the approximate date of submission.

Contesting record procedures:

Refer to “Record access procedures.”

Record source categories:

The sources of these records are as follows: (a) Individual to whom the record pertains; (b) Agency officials; (c) Affidavits or statements from employee(s); (d) Testimonies of witnesses; (e) Official documents and correspondence relating to the grievance.

Exemptions claimed for the system:

None.

[FR Doc. 01-20702 Filed 8-16-01; 8:45 am]

BILLING CODE 4810-37-P